DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 66 FR 38289-38290, dated July 23, 2001) is amended to retitle and revise the functional statement of the Arctic Investigations Program (AIP), National Center for Infectious Diseases (NCID).

Section C-B, Organization and Functions, is hereby amended as follows:

Delete in its entirety the title and functional statement for the Arctic Investigations Program (CFJ) and insert the following:

Arctic Investigations Program (CRJ). (1) Conducts surveillance of infectious diseases and conditions that impact the health of all residents of the circumpolar region with special emphasis on diseases of high incidence and concern among indigenous peoples of these regions; (2) designs and conducts epidemiologic studies to investigate the causes and risk factors for infectious diseases among residents of the Arctic and sub-Arctic, and conducts long-term studies to determine sequelae of various etiologic agents; (3) conducts laboratory research to evaluate existing laboratory tests, modifies methods as needed to apply the technology in the Arctic health-care setting, and develops new methods for diagnosis, treatment, and follow-up of health problems; (4) designs and implements studies to evaluate strategies for control of infectious diseases among residents and travelers in the Arctic in collaboration with, the State of Alaska, foreign ministries of health, universities, National Institutes of Health, organizations in Alaska, and other programs within CDC; (5) provides epidemiologic, statistical, computer, and laboratory consultation to organizations in Alaska, other health providers, and public and private health agencies; (6) assists local, national, and international agencies and organizations in developing guidelines for infectious disease prevention and control applicable to Arctic residents; (7) disseminates information on problems of particular import for residents of circumpolar regions; (8) provides training and technological assistance in epidemiology, statistics, and laboratory methodology to health-care personnel working or planning to conduct research in the Arctic; (9) participates in the Arctic Council proceedings, the International Union for Circumpolar activities and other international collaborative efforts to improve the health of all circumpolar populations; and (10) and the predominate Federal agency conducting infectious diseases research in the Arctic, provides local input as needed to the Office of the Director CDC, the Interagency Arctic Research and Policy Committee, Arctic Research Commission, and National Science Foundation as established under the U.S. Arctic Research and Policy Act of 1984.

Office of the Director (CRJ1). (1) Manages, prioritizes, directs, and coordinates the activities of the Arctic Investigation Program (AIP); (2) provides leadership and guidance on policy, program planning and development, program management, and operations; (3) provides AIP-wide administrative services, and coordinates or assures coordination with the appropriate NCID and CDC staff offices on administrative and program matters; (4) provides liaison with other Governmental agencies, international organizations, and other outside groups; (5) advises and represents the Director, NCID on policy matters concerning American Indians and Alaska Natives and on Arctic health issues in general; (6) responsible for budget planning, formulation, program budget execution, monitoring, and response to budget audits and reviews; (7) responsible for facility management, security, and employee safety; (8) responsible for the editing, clearance, and tracking of manuscripts for publication, abstracts for presentation, and protocols for Institutional Review Board (IRB) and human subjects review; (9) provides technical aid, consultation, and training to AIP staff on health education, behavioral science, distance education, community organization, and electronic, print, and oral communications; and sponsors and participates in national and international meetings and conferences.

Epidemiology Activity (CRJ2). (1) Conducts epidemic investigations, surveillance, and special studies to investigate the causes, risk factors, and prevention of infection diseases among residents of the Arctic and sub-Arctic; (2) analyzes demographic and disease information and other risk factors that contribute to disease morbidity and mortality; (3) develops, evaluates, and implements prevention and control strategies; (4) provides consultation and technical assistance on surveillance and epidemiologic investigations to other agencies and public and private health-care providers; (5) together with the Laboratory and the Biostatistics and Information Branches develops study protocols and coordinates collaborative research projects involving other agencies, universities, and outside researchers; (6) provides training for Epidemic Intelligence Service Officers, visiting fellows and students; (7) advises AIP staff on health education/communication strategies; and (8) prepares reports and manuscripts for publication.

Laboratory Research Activity (CRJ3). (1) Conducts microbiologic, immunologic, and molecular-based studies directed toward the detection, identification, characterization, tracking, and understanding of the pathogenic mechanisms of infectious agents causing diseases of high incidence among residence of the circumpolar regions; (2) establishes and maintains laboratory surveillance and quality assurance procedures for microbial agents targeted for prevention and control; (3) responsible for the safety and security of the laboratory, and maintenance of the security and integrity of a computerized specimen bank; (4) evaluates existing laboratory assays, or develops new assays for the detection or measurement of antibodies, antigens, nucleic acids, or other markers of microbial agents responsible for infectious diseases and chronic diseases with known or possible infectious etiology; (5) provides laboratory support for epidemiologic studies and outbreak investigations initiated by the Epidemiology Branch and serves as a resource laboratory for the State of Alaska, Section of Laboratories, the Alaska Native Medical Center, and laboratories of other Alaska Native Health Corporations; (6) responsible for maintaining the necessary licensures (NRC, CLIA and Select Agents) required for laboratory studies conducted at AIP; (7) Provides training for visiting fellows, graduate, and undergraduate students pursuing careers in public health laboratory practice; (8) prepares reports, abstracts, and manuscripts for publication; and (9) provides general laboratory consultation to other agencies, public and private health care providers, and researchers conducting studies in Arctic regions.

Biostatistics and Information Management Activity (CRJ4). (1) Develops and maintains computerized database of information gathered as part of AIP's epidemiologic and laboratory studies; (2) provides statistical methodology, participates in the design and analysis, and performs data entry for Program's epidemiologic investigations and surveillance systems; (3) together with the Epidemiology and the Laboratory Branches, designs disease reporting systems for ongoing surveillance; (4) provides statistical consultation for Program staff and other CDC and public health officials; (5) is responsible for the integrity, security, and maintenance of computerized database for a serum bank consisting of 500,000 aliquots of serum from 100,000 Alaskan Natives; (6) is responsible for the operation, maintenance, and upgrading of all computer systems; (7) provides computer training and user support for all program staff; (8) assists in acquisition, translation, and analysis of computerized data from external sources; and (9) prepares reports and manuscripts for publication and provides consultation to other agencies, public and private health-care providers, and researchers.

Dated: July 13, 2001.
Jeffrey P. Koplan,
Director.

[FR Doc. 01-18851 Filed 7-26-01; 8:45 am]

BILLING CODE 4160-18-M